DEPARTMENT OF ENERGY

Federal Energy Regulatory Commission

[Docket No. EC03-11-000, et al.]

Harold E. Dittmer, et al.; Electric Rate and Corporate Filings

November 8, 2002.

The following filings have been made with the Commission. The filings are listed in ascending order within each docket classification.

1. Harold E. Dittmer, Hanover Power, LLC

[Docket No. EC03-11-000]

Take notice that on November 5, 2002, Harold E. Dittmer (Mr. Dittmer), and Hanover Power, LLC (HP) (collectively, the Applicants), filed with the Federal Energy Regulatory Commission (the Commission) an application pursuant to section 203 of the Federal Power Act seeking authorization for the transfer of certain jurisdictional facilities whereby Applicants request approval of the transfer of 49% of the upstream membership interests in Wellhead Power Panoche, LLC to HP.

Comment Date: November 26, 2002.

2. Fresno Power Investors, L.P., Harold E. Dittmer, Hanover Power (Gates), LLC

[Docket No. EC03-12-000]

Take notice that on November 5, 2002, Fresno Power Investors, L.P. (FPILP), Harold E. Dittmer (Mr. Dittmer), and Hanover Power (Gates), LLC (HPG) (collectively, the Applicants), filed with the Federal Energy Regulatory Commission (the Commission) an application pursuant to section 203 of the Federal Power Act seeking authorization for the transfer of certain jurisdictional facilities whereby Applicants request approval of the transfer of 92.5% of the upstream membership interests in Wellhead Power Gates, LLC to HPG.

Comment Date: November 26, 2002.

3. Harbor Cogeneration Company

[Docket No. EC03-13-000]

Take notice that on November 5, 2002, Harbor Cogeneration Company (Harbor Cogeneration), ABB Equity Ventures Inc. (ABB Equity), and Black Hills Energy Capital, Inc. (BH Energy Capital) filed an application with the Federal Energy Regulatory Commission requesting authorization from the Commission for ABB Equity to transfer to BH Energy Capital its limited partnership interests in two investment funds that indirectly own interests in Harbor Cogeneration.

Comment Date: November 29, 2002.

4. High Winds, LLC

[Docket No. EG03-12-000]

Take notice that on November 4, 2002, High Winds, LLC (the Applicant), filed with the Federal Energy Regulatory Commission (the Commission) an application for determination of exempt wholesale generator status pursuant to part 365 of the Commission's regulations.

Applicant states that it is a Delaware limited liability company engaged directly and exclusively in the business of owning and operating an up to 166 MW wind-powered generation facility located in Solano County, California. Electric energy produced by the facility will be sold at wholesale.

Comment Date: November 25, 2002.

5. Mirant Las Vegas, LLC

[Docket No. EG03-13-000]

Take notice that on November 4, 2002, Mirant Las Vegas, LLC (Mirant Las Vegas) filed with the Federal Energy Regulatory Commission an application for determination of exempt wholesale generator status pursuant to part 365 of the Commission's regulations.

Mirant Las Vegas proposes to own a 575 MW net generating capability facility located near the city of Las Vegas, Nevada (Facility). The proposed Facility is expected to commence commercial operation in March, 2003. All output from the Facility will be sold by Mirant Las Vegas exclusively at wholesale.

Comment Date: November 25, 2002.

6. Choctaw Generation Limited Partnership

[Docket No.EL03-24-000]

Take notice that on November 4, 2002, Choctaw Generation Limited Partnership filed with the Federal Energy Regulatory Commission a petition for declaratory order requesting that the Commission disclaim jurisdiction under the FPA with respect to the passive owner/lessor(s) that will assume ownership of its facility in connection with a sale-leaseback financing.

Comment Date: November 18, 2002.

7. Westar Generating, Inc.

[Docket No. ER01-1305-005]

Take notice that on November 4, 2002, Westar Generating, Inc. (WGI) submitted for filing a refund report in compliance with the Commission's Order issued September 5, 2002 in the above-referenced docket.

WGI states that a copy of the filing has been served on Westar Energy, Inc. and the Kansas Corporation Commission.

Comment Date: November 25, 2002.

8. Entergy Services, Inc.

[Docket No. ER01-1951-004]

Take notice that on November 4, 2002, Entergy Services, Inc., on behalf of Entergy Arkansas, Inc., Entergy Gulf States, Inc., Entergy Louisiana, Inc., Entergy Mississippi, Inc., and Entergy New Orleans, Inc., (collectively, the Entergy Operating Companies) tendered for filing a supplement to its compliance refund report filed on September 23, 2002, in accordance with the Commission's Order.

The supplemental refund report details the refunds for Conway Corporation, West Memphis Utilities, Farmers Electric Cooperative Corporation, Brazos Electric Power Cooperative, and the City of Prescott.

Comment Date: November 25, 2002.

9. BOC Energy Services, Inc.

[Docket No. ER03-44-002]

Take notice that, on November 5, 2002, BOC Energy Services, Inc. (BOC) filed corrected designations to supplement BOC's Petition For Acceptance of Initial Rate Schedule, Waiver, and Blanket Authority, filed with the Federal Energy Regulatory Commission on October 15, 2002.

BOC submits these corrected designations to: (1) Modify the format of BOC's FERC Electric Rate Schedule; and (2) supplement BOC's Rate Schedule to list the specific ancillary services BOC plans to provide and the areas in which BOC intends to provide these services.

Comment Date: November 26, 2002.

10. Xcel Energy Services, Inc., Public Service Company of Colorado

[Docket No. ER03-154-000]

Take notice that on November 4, 2002, Xcel Energy Services, Inc. (XES), on behalf of Public Service Company of Colorado (PSCo) submitted for filing with the Federal Energy Regulatory Commission (Commission) the Generation Interconnection Agreement between PSCo and Thermo Cogeneration Partnership, L.P.

PSCo requests the letter agreements be accepted for filing effective October 1, 2001, and requests waiver of the Commission's notice requirements in order for the Agreements to be accepted for filing on the date requested.

Comment Date: November 25, 2002.

11. High Winds, LLC

[Docket No. ER03-155-000]

Take notice that on November 4, 2002 High Winds, LLC tendered for filing an application for authorization to sell energy and capacity at market-based rates pursuant to section 205 of the Federal Power Act.

Comment Date: November 25, 2002.

12. PECO Energy Company

[Docket No. ER03-156-000]

Take notice that on November 5, 2002 PECO Energy Company (PECO) submitted for filing revised pages of an Interconnection Agreement dated January 12, 2001 by and between PECO and the Joint Owners of the Peach Bottom Atomic Power Station. Copies of this filing were served on the Joint Owners and PJM Interconnection, L.L.C.

Comment Date: November 26, 2002.

13. Florida Power & Light Company

[Docket No.ER03-157-000]

Take notice that on November 5, 2002, Florida Power & Light Company (FPL) tendered for filing Amendment Number Six to the Network Service Agreement between FPL and the Florida Municipal Power Agency (NSA), and related agreements. Amendment Number Six adds the City of Lake Worth, Florida as a Network Member under the NSA. FPL also proposes to terminate the Non-Firm Transmission Service Agreement Between Florida Power & Light Company and the City of Lake Worth; the Short Term Firm Transmission Service Agreement Between Florida Power & Light Company and the City of Lake Worth; and the Rate Schedule designated for the Territorial Agreement and Contract for Interchange Service Between Florida Power & Light Company and Lake Worth Utilities Authority City of Lake Worth, Florida. FPL proposes an effective date for the agreements and terminations of October 1, 2002.

Comment Date: November 26, 2002.

14. Entergy Services, Inc.

[Docket No. ER03-158-000]

Take notice that on November 5, 2002, Entergy Services, Inc., on behalf of Entergy Louisiana, Inc. (Entergy Louisiana), tendered for filing six copies of a Notice of Termination of the Interconnection and Operating Agreement and Generator Imbalance Agreement between Entergy Louisiana and Duke Energy Ruston, LLC.

Comment Date: November 26, 2002.

15. Virginia Electric and Power Company

[Docket No. ER03-159-000]

Take notice that Virginia Electric and Power Company (Dominion Virginia Power), on November 5, 2002, tendered for filing a revised service agreement providing for sales of capacity and energy to its affiliate, Dominion Retail, Inc., pursuant to Dominion Virginia Power's cost-based power sales tariff, FERC Electric Tariff No. 7. Dominion Virginia Power is making the revision to include, as part of the service agreement, the Master Power Purchase and Sale Agreement between the Company and Dominion Retail, which contains language that the Virginia State Corporation Commission (SCC) has ordered Dominion Virginia Power to include and file with the Federal Energy Regulatory Commission.

Copies of the filing were served upon the public utility's jurisdictional customers, and the Virginia State Corporation Commission Comment Date: November 26, 2002.

16. Mirant Las Vegas, LLC

[Docket No. ER03-160-000]

Take notice that on November 5, 2002, Mirant Las Vegas, LLC (Mirant Las Vegas) tendered for filing an application for an order accepting its FERC Electric Tariff No. 1, granting certain blanket approvals, including the authority to sell electricity at market-base rates, and waiving certain regulations of the Commission. Mirant Las Vegas requested expedited Commission consideration. Mirant Las Vegas requested that its Rate Schedule No. 1 become effective upon the earlier of the date the Commission authorizes market-based rate authority, or December 10, 2002. Mirant Las Vegas also filed its FERC Electric Tariff No. 1.

Comment Date: November 26, 2002.

17. Boston Edison Company

[Docket No. ER03-161-000]

Take notice that on November 6, 2002, Boston Edison Company (Boston Edison) tendered for filing an executed Related Facilities Agreement between Boston Edison and Lake Road Generating Company, L.P. Boston Edison requests an effective date of the Agreement of January 5, 2003.

Boston Edison states that it has served a copy of the filing on Lake Road and the Massachusetts Department of Telecommunications and Energy.

Comment Date: November 26, 2002.

18. Earth Resources, Inc.

[Docket No. QF03-1-000]

Take notice that on October 7, 2002, Earth Resources, Inc. Filed with the Federal Energy Regulatory Commission (Commission) an application for certification of a facility as a qualifying Small Power Production facility pursuant to Section 292.207(b) of the Commission's regulations. No determination has been made that the submittal constitutes a complete filing.

The facility will be a 5.35 MW Waste Wood-fired Small Power Production Facility (Facility) and will be located in the Town of Carnesville, Franklin County, Georgia. The Facility will be interconnected with the Hart EMC transmission system.

Comment Date: November 29, 2002.

Standard Paragraph

Any person desiring to intervene or to protest this filing should file with the Federal Energy Regulatory Commission, 888 First Street, NE., Washington, DC 20426, in accordance with Rules 211 and 214 of the commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-29409 Filed 11-18-02; 8:45 am]

BILLING CODE 6717-01-P